DEPARTMENT OF HEALTH AND HUMAN SERVICES

Administration for Children and Families

Announcement of the Award a Single-Source Program Expansion Supplement Grant to BCFS Health and Human Services in San Antonio, TX

AGENCY: Office of Refugee Resettlement, ACF, HHS.

ACTION: The Administration for Children and Families (ACF), Office of Refugee Resettlement (ORR), announces the award of a single-source program expansion supplement grant to BCFS Health and Human Services (BCFS) in San Antonio, TX, under the Unaccompanied Children's (UC) Program to support home study services.

SUMMARY: The Administration for Children and Families (ACF), Office of Refugee Resettlement (ORR), announces the award of a single-source program expansion supplement grant for $500,000. The expansion supplement grant will support the need to increase home study capacity to expedite completion of home studies for approximately 400 UCs.

BCFS provides nationwide coverage of home study services to children in the care and custody of ORR, as well as services to include counseling, case management, and additional support services to the family or to the UC and their sponsor when a UC is released from ORR's care and custody.

DATES: Supplemental award funds will support activities from September 29, 2015 through September 30, 2015.

FOR FURTHER INFORMATION CONTACT: Jallyn Sualog, Director, Division of Children's Services, Office of Refugee Resettlement, 901 D Street SW., Washington, DC 20447. Email: DCSProgram@acf.hhs.gov.

SUPPLEMENTARY INFORMATION: While this number of referrals to the Unaccompanied Children Program in FY 2015 is well below the total referrals from FY 2014, ORR has seen a change to recent referral trends, including a steady August referral rate and an increasing occupancy rate of UC in care. This increase in referrals has also generated a correlating increase in the need for home study services. The supplemental awards will support and expand home study services for UC to facilitate their release from ORR custody.

ORR has specific requirements for the provision of services. Award recipients must have the infrastructure, licensing, experience, and appropriate level of trained staff to meet the service requirements and the urgent need for expansion of services. The program's ability to avoid a buildup of children waiting, in Border Patrol stations, for placement in shelters, can only be accommodated through the expansion of the existing program and its services through the supplemental award.

Statutory Authority: This program is authorized by—

(A) Section 462 of the Homeland Security Act of 2002, which in March 2003, transferred responsibility for the care and custody of Unaccompanied Alien Children from the Commissioner of the former Immigration and Naturalization Service (INS) to the Director of ORR of the Department of Health and Human Services (HHS).

(B) The Flores Settlement Agreement, Case No. CV85-4544RJK (C. D. Cal. 1996), as well as the William Wilberforce Trafficking Victims Protection Reauthorization Act of 2008 (Pub. L. 110-457), which authorizes post release services under certain conditions to eligible children. All programs must comply with the Flores Settlement Agreement, Case No. CV85-4544-RJK (C.D. Cal. 1996), pertinent regulations and ORR policies and procedures.

CFDA Number: 93.676

Christopher Beach,
Senior Grants Policy Specialist, Division of Grants Policy, Office of Administration.

[FR Doc. 2016-01336 Filed 1-22-16; 8:45 am]

BILLING CODE 4184-45-P